DEPARTMENT OF COMMERCE

National Oceanic and Atmospheric Administration

RIN 0648-XG500

Marine Mammals; Administration of the National Inventory of Marine Mammals

AGENCY: National Marine Fisheries Service (NMFS), National Oceanic and Atmospheric Administration (NOAA), Commerce.

ACTION: Notice; extension of comment period.

SUMMARY: Notice is hereby given that NMFS is extending the public comment period for the request for comments on proposed policies and procedures for the administration of the National Inventory of Marine Mammals (NIMM).

DATES: Comments must be received by 11:59 p.m. Eastern on or before July 31, 2019.

ADDRESSES: You may submit comments, identified by NOAA-NMFS-2019-0012, by any of the following methods:

• Electronic Submission: Submit electronic public comments via the Federal e-Rulemaking Portal www.regulations.gov. To submit comments via the e-Rulemaking Portal, enter NOAA-NMFS-2019-0012 in the keyword search. Locate the document you wish to comment on from the resulting list and click on the “Comment Now” icon on the right of that line.

• Mail: Comments on the application should be addressed to: Permits and Conservation Division, Office of Protected Resources, NMFS, 1315 East-West Highway, Room 13705, Silver Spring, MD 20910; ATTN: Jolie Harrison, Chief, Permits and Conservation Division.

• Fax: (301) 713-0376; ATTN: Jolie Harrison, Chief, Permits and Conservation Division, Office of Protected Resources.

Instructions: Comments must be submitted by one of the above methods. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word, Excel, or Adobe PDF file formats only.

FOR FURTHER INFORMATION CONTACT: Amy Sloan, (301) 427-8401.

SUPPLEMENTARY INFORMATION: On February 15, 2019, NMFS published notice (84 FR 4443) requesting public comment on proposed policies and procedures for the administration and maintenance of the online inventory database, NIMM, including maintenance of historical information, reporting births and stillbirths, reporting cause of death, and other administrative procedures for NIMM.

NMFS has decided to allow additional time for submission of public comments on this action and has extended the comment period through July 31, 2019. The original Federal Register notice and additional information is available at https://www.fisheries.noaa.gov/action/proposed-policies-and-procedures-national-inventory-marine-mammals.

Dated: April 11, 2019.
Donna S. Wieting,
Director, Office of Protected Resources, National Marine Fisheries Service.

[FR Doc. 2019-07574 Filed 4-15-19; 8:45 am]

BILLING CODE 3510-22-P